DEPARTMENT OF HOUSING AND URBAN DEVELOPMENT

[Docket No. FR-5828-N-43]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Veronica Rines, Office of the Assistant Chief of Staff for Installation Management, Department of Army, Room 5A128, 600 Army Pentagon, Washington, DC 20310, (571) 256-8145; COAST GUARD: Commandant, United States Coast Guard, Attn: Aretha Swann, 2703 Martin Luther King Jr. Avenue SE, Stop 7741, Washington, DC 20593-7714; (202) 475-5628; GSA: Mr. Flavio Peres, General Services Administration, Office of Real Property Utilization and Disposal, 1800 F Street NW., Room 7040 Washington, DC 20405, (202) 501-0084; NAVY: Mr. Steve Matteo, Department of the Navy, Asset Management; Division, Naval Facilities Engineering Command, Washington Navy Yard, 1330 Patterson Ave. SW., Suite 1000, Washington, DC 20374; (202) 685-9426; (These are not toll-free numbers).

Dated: October 15, 2015.
Brian P. Fitzmaurice,
Director, Division of Community Assistance, Office of Special Needs Assistance Programs.

TITLE V, FEDERAL SURPLUS PROPERTY PROGRAM FEDERAL REGISTER REPORT FOR 10/23/2015

Suitable/Available Properties

Building

Louisiana

110 Willow Street

110 Willow Street

Homer LA 71040

Landholding Agency: GSA

Property Number: 54201540005

Status: Excess

GSA Number: 7-A-LA-0533-AA

Directions: Disposal Agency: GSA; Landholding Agency: Interior

Comments: 54+ yrs. old; 1,754 sq. ft.; residential; vacant 12+ mos.; sits on 0.37 acres land; contact GSA for more information.

Minnesota

FM Repeater Station Install #3

Sec. 24, T. 105N, R 5W

Dresbach MN

Landholding Agency: GSA

Property Number: 54201540004

Status: Excess

GSA Number: 1-D-MN-598

Directions: Land Holding Agency: COE; Disposal Agency: GSA

Comments: 50+ yrs. old; 80 sq. ft.; storage; average condition; contact GSA for more information.

Texas

3 Bldgs.; Former Hebbronvil

1312 W. Harald Street

Hebbronville TX 78361

Landholding Agency: GSA

Property Number: 54201540001

Status: Surplus

GSA Number: 7-X-TX-0621-AB

Directions: Block Office Bldg.; Storage Bldg. & Wooden Storage Bldg.

Comments: 25-65 yrs. old; 5,834 gross sq. ft.; office; water damage on ceiling of office bldg.; contact GSA for more information.

Wisconsin

FM Repeater Station Install.#3

Sec. 36, T. 25N, R 13W

Bay City WI

Landholding Agency: GSA

Property Number: 54201540002

Status: Excess

GSA Number: 1-D-WI-621

Directions: Land Holding Agency: COE; Disposal Agency: GSA

Comments: 50+ yrs. old; 80 sq. ft.; storage; average condition; contact GSA for more information.

FM Repeater Station Install #3

Sec. 26, T. 9N, R 6W

Lynxville WI 54626

Landholding Agency: GSA

Property Number: 54201540003

Status: Excess

GSA Number: 1-D-WI-622

Directions: Land Holding Agency: COE; Disposal Agency: GSA

Comments: 50+ yrs. old; 80 sq. ft.; storage; average condition; contact GSA for more information.

Unsuitable Properties

Building

Connecticut

Building 548, Naval Submarine

Lower Base off Argonaut & Cisco Ave.

Groton CT 06349

Landholding Agency: Navy

Property Number: 77201540001

Status: Excess

Comments: Flam/explosive located on adjacent indust, comm., or Fed. fac.; heavy weaponry is actively loaded on board submarines; public access denied and no alter method to gain access w/o compromising national security.

Reasons: Within 2000 ft. of flammable or explosive material; Secured Area

Indiana

2 Buildings

2828 Madison S. Ave.

Anderson IN 46016

Landholding Agency: Army

Property Number: 21201540001

Status: Unutilized

Directions: AR009 & AR033

Comments: Public access denied and no alternative method to gain access without compromising national security.

Reasons: Secured Area

North Carolina

Swimming Pool Bldg. (33)(24035)

1664 Weeksville Road

Elizabeth City NC 27909

Landholding Agency: Coast Guard

Property Number: 88201540002

Status: Excess

Comments: property within military airfield; public access denied and no alternative method to gain access without compromising national security.

Reasons: Secured Area; Within airport runway clear zone

Land

Mississippi

Joe William Field North Solar

Joe Williams (OLF Bravo)

Naval Air Station Merd MS

Landholding Agency: Navy

Property Number: 77201540002

Status: Underutilized

Comments: public access denied and no alternative method to gain access without compromising national security.

Reasons: Secured Area

[FR Doc. 2015-26750 Filed 10-22-15; 8:45 am]

BILLING CODE 4210-67-P